DEPARTMENT OF THE TREASURY

Submission for OMB Review; Comment Request

January 20, 2010.

The Department of the Treasury will submit the following public information collection requirements to OMB for review and clearance under the Paperwork Reduction Act of 1995, Public Law 104-13 on or after the date of publication of this notice. A copy of the submissions may be obtained by calling the Treasury Bureau Clearance Officer listed. Comments regarding these information collections should be addressed to the OMB reviewer listed and to the Treasury PRA Clearance Officer, Department of the Treasury, 1750 Pennsylvania Avenue, NW., Suite 11010, Washington, DC 20220.

DATES: Written comments should be received on or before February 26, 2010 to be assured of consideration.

Internal Revenue Service (IRS)

OMB Number: 1545-0196.

Type of Review: Revision of a currently approved collection.

Title: Split-Interest Trust Information Return.

Form: 5227.

Description: The data reported is used to verify that the beneficiaries of a charitable remainder trust include the correct amounts in their tax returns, and that the split-interest trust is not subject to private foundation taxes.

Estimated Total Burden Hours: 15,152,550 hours.

OMB Number: 1545-2025.

Type of Review: Revision of a currently approved collection.

Title: Clean Renewable Energy Bond Credit and Gulf Bond Credit.

Form: 8912.

Description: Form 8912, Clean Renewable Energy Bond Credit and Gulf Bond Credit, was developed to carry out the provisions of Internal Revenue Code sections 54 and 1400N(l). The form provides a means for the taxpayer to compute the clean renewable energy bond credit and the Gulf bond credit.

Respondents: Private sector: Businesses or other for-profits.

Estimated Total Burden Hours: 5,555 hours.

Bureau Clearance Officer: R. Joseph Durbala, Internal Revenue Service, 1111 Constitution Avenue, NW., Room 6129, Washington, DC 20224; (202) 622-3634.

OMB Reviewer: Shagufta Ahmed, Office of Management and Budget, New Executive Office Building, Room 10235, Washington, DC 20503; (202) 395-7873.

Dawn D. Wolfgang,
Treasury PRA Clearance Officer.

[FR Doc. 2010-1599 Filed 1-26-10; 8:45 am]

BILLING CODE 4830-01-P